DEPARTMENT OF VETERANS AFFAIRS

Advisory Committee on Women Veterans; Notice of Meeting

The Department of Veterans Affairs (VA) gives notice under Public Law 92-463 (Federal Advisory Committee Act) that the Advisory Committee on Women Veterans will meet March 29-31, 2011, in room 230 at VA Central Office, 810 Vermont Avenue, NW., Washington, DC, from 8:30 a.m. until 4 p.m., each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda includes updates on recommendations from the 2010 report; overviews of the Veterans Health Administration, the Veterans Benefits Administration, the National Cemetery Administration, and the Women Veterans Health Strategic Health Care Group; and briefings on mental health, women Veterans' legislative issues, women Veterans' research, rural health, and homeless initiatives for women Veterans.

No time will be allocated for receiving oral presentations from the public. However, members of the public may direct questions or submit written statements for review by the Committee in advance of the meeting, or within 10 days after the meeting, to Ms. Shannon L. Middleton at the Department of Veterans Affairs, Center for Women Veterans (00W), 810 Vermont Avenue, NW., Washington, DC 20420 or by fax at (202) 273-7092, or e-mail at 00W@mail.va.gov. Any member of the public wishing to attend the meeting should contact Ms. Middleton at (202) 461-6193.

Dated: January 31, 2011.
By Direction of the Secretary.
William F. Russo,
Director of Regulations Management, Office of the General Counsel.

[FR Doc. 2011-2391 Filed 2-2-11; 8:45 am]

BILLING CODE 8320-01-P